ENVIRONMENTAL PROTECTION AGENCY

[ER-FRL-9024-1]

Environmental Impact Statements; Notice of Availability

Responsible Agency: Office of Federal Activities, General Information (202) 564-7146 or http://www2.epa.gov/compliance/nepa.

Weekly receipt of Environmental Impact Statements (EISs)

Filed 11/09/2015 Through 11/13/2015

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20150320, Draft, AFS, ID, Targhee National Forest Lynx Analysis Units, Comment Period Ends: 01/04/2016, Contact: Robert Herzog 208-557-5763.

EIS No. 20150321, Final, AFS, NM, North Fork Wells of Eagle Creek, Review Period Ends: 12/24/2015, Contact: Christina Thompson 575-257-4095.

EIS No. 20150322, Draft Supplement, USFS, CO, Rulemaking for Colorado Roadless Areas, Comment Period Ends: 01/04/2016, Contact: Ken Tu 303-275-5156.

EIS No. 20150323, Draft, FHWA, NC, Complete 540 Triangle Expressway Southeast Extension, Comment Period Ends: 01/04/2016, Contact: Clarence Coleman 919-747-7014.

EIS No. 20150324, Final, FRA, CA, Coast Corridor Improvements, Contact: Melissa Hatcher 202-493-6075 Under MAP-21 Section 1319, FRA has issued a single FEIS and ROD. Therefore, the 30-day wait/review period under NEPA does not apply to this action.

EIS No. 20150325, Final, FERC, LA, Magnolia LNG and Lake Charles Expansion Projects, Review Period Ends: 12/21/2015, Contact: Janine Cefalu 202-502-8271.

EIS No. 20150326, Draft, BLM, CO, Previously Issued Oil and Gas Leases in the White River National Forest, Comment Period Ends: 01/08/2016, Contact: Gregory Larson 970-876-9048.

EIS No. 20150327, Draft Supplement, DOE, NH, Northern Pass Transmission Line Project, Comment Period Ends: 01/04/2016, Contact: Brian Mills 202-586-8267.

EIS No. 20150328, Draft, USDA, AK, Tongass Land and Resource Management Plan Amendment, Comment Period Ends: 02/22/2016, Contact: Susan Howle 907-228-6340.

EIS No. 20150329, Final, NRC, NJ, Early Site Permit at PSEG Site, Review Period Ends: 12/21/2015, Contact: Allen Fetter 301-415-8556.

EIS No. 20150330, Draft Supplement, BLM, CO, Roan Plateau Planning Area Draft Resource Management Plan Amendment, Comment Period Ends: 02/18/2016, Contact: Gregory Larson 970-876-9048.

Amended Notices

EIS No. 20150319, Final, BLM, OR, ADOPTION—Jordan Cove Energy and Pacific Connector Gas Pipeline Project, Contact: Miriam Liberatore 540-618-2400.

The U.S. Department of the Interior's Bureau of Land Management is adopting the U.S. Federal Energy Regulatory Commission's FEIS #20150285, filed 09/30/2015 with EPA. BLM was a cooperating agency for the above project. Therefore, recirculation of the document is not necessary under Section 1506.3(c) of the Council on Environmental Quality Regulations.

EIS No. 20150331, Final, USFS, OR, ADOPTION—Jordan Cove Energy and Pacific Connector Gas Pipeline Project, Contact: Wes Yamamoto 541-825-3150.

The U.S. Department of Agriculture's Forest Service is adopting the U.S. Federal Energy Regulatory Commission's FEIS #20150285, filed 09/30/2015 with EPA. USFS was a cooperating agency for the above project. Therefore, recirculation of the document is not necessary under Section 1506.3(c) of the Council on Environmental Quality Regulations.

Dated: November 17, 2015.
Karin Leff,
Acting Director, NEPA Compliance Division, Office of Federal Activities.

[FR Doc. 2015-29685 Filed 11-19-15; 8:45 am]

BILLING CODE 6560-50-P